DEPARTMENT OF ENERGY

Federal Energy Regulatory Commission

[Docket No. CP00-232-001]

Iroquois Gas Transmission System, L.P.; Notice of Technical and Scoping Meetings for the Proposed Eastchester Project, as Amended

January 23, 2001.

On December 15, 2000, Iroquois Gas Transmission System, L.P. (Iroquois), filed an amendment to the application for the Eastchester Project. Iroquois proposes to construct a natural gas pipeline from Long Island to the Bronx, New York. The amendment includes a new preferred route through the Bronx, three additional routing alternatives, as well as alternative interconnection locations with Consolidated Edison Company of New York's facilities. The amendment was noticed on December 28, 2000.

Iroquois's preferred alternative would traverse long Island Sound with landfall at Locust point. Through a combination of underground horizontal drilling and open-trench construction, the pipeline would cross the Throgs Neck Expressway, follow the Throgs Neck Expressway Extension to Lafayette Avenue and follow Lafayette Avenue to an interconnection site located just south of the intersection of Lafayette and Brush avenues on the east bank of Westchester Creek.

In a letter dated January 5, 2001, Congresswoman Nita M. Lowey requested a meeting be held to inform elected officials and the public about the pipeline certification process, Iroquois' amendment, and other viable route options. A technical meeting will be held to discuss these issues and to exchange information among state and federal agencies and U.S., state, and community representatives. The location and time for the technical meeting are listed below:

Date and Time: February 2, 2001, 10 a.m.

Location: Community Board 10, 3165 E. Tremont Avenue, Bronx, NY 10461.

Phone: (718) 892-1161.

While the public is welcome to attend the technical meeting, public comments will be received at the scoping meeting listed below:

Date and Time: February 15, 2001, 7 a.m.

Location: St. Francis de Chantal School, 2962 Harding Avenue, Bronx, NY 10465.

Phone: (718) 792-5500.

Comments received at the scoping meeting will assist Commission staff to determine the issues to be evaluated in the environmental impact statement and will be included in the Commission's record for this proceeding. Additional information may be obtained from John Schnagl, at (202) 219-2661.

David P. Boergers,
Secretary.

[FR Doc. 01-2431 Filed 1-26-01; 8:45 am]

BILLING CODE 6717-01-M